NUCLEAR REGULATORY COMMISSION

Issuance, Availability of Regulatory Guide, Standard Review Plan, and Generic Aging Lessons Learned (GALL) Report

AGENCY: Nuclear Regulatory Commission.

ACTION: Notice of availability.

SUMMARY: The Nuclear Regulatory Commission (NRC) is issuing Regulatory Guide 1.188, “Standard Format and Content for Applications to Renew Nuclear Power Plant Operating Licenses”; NUREG-1800, “Standard Review Plan for the Review of License Renewal Applications for Nuclear Power Plants” (SRP-LR); and NUREG-1801, “Generic Aging Lessons Learned (GALL) Report.” These documents describe methods acceptable to the NRC staff for implementing the license renewal rule, as well as techniques used by the NRC staff in evaluating applications for license renewals. The draft versions of these documents were issued for public comment on August 31, 2000 (64 FR 53047). The staff assessment of public comments is being issued as NUREG-1739, “Analysis of Public Comments on the Improved License Renewal Guidance Documents.”

ADDRESSES: Electronic copies are available in NRC's Electronic Reading Room accessible from the NRC Web site <http://www.nrc.gov>. Regulatory Guide 1.188 is under ADAMS Accession Number ML012010322; NUREG-1800 (SRP-LR) is under ADAMS Accession number ML012070413; NUREG-1801, the GALL Report, is under ADAMS Accession numbers ML012060392 (Volume 1) and ML012060545 (Volume 2); the NEI 95-10 (Revision 3) is under ADAMS Accession number ML011100576; and NUREG-1739 (Analysis of Public Comments) is under ADAMS Accession number ML012080104.

Copies of NUREG series documents are available at current rates from the U.S. Government Printing Office, P.O. Box 37082, Washington, DC 20402-9328; telephone (202)512-1800; or from the National Technical Information Service (NTIS) at 5285 Port Royal Road, Springfield, VA 22161; telephone (800)553-6847; <http://www.ntis.gov/ordernow>. Single copies of regulatory guides may be obtained free of charge by writing the Reproduction and Distribution Services Section, OCIO, USNRC, Washington, DC 20555-0001, or by fax to (301)415-2289, or by email to <DISTRIBUTION@NRC.GOV>. Active guides may also be purchased from the NTIS on a standing order basis. Details on this service may be obtained by contacting NTIS, Copies are available for inspection or copying for a fee from the NRC Public Document Room at 11555 Rockville Pike, Rockville, MD; the PDR's mailing address is USNRC PDR, Washington, DC 20555; telephone (301)415-4737 or (800)397-4209; fax (301)415-3548; email is PDR@NRC.GOV. These license renewal guidance documents are not copyrighted, and Commission approval is not required to reproduce them.

FOR FURTHER INFORMATION CONTACT: Raj Anand, Office of Nuclear Reactor Regulation, Mail Stop O-12G15, U.S. Nuclear Regulatory Commission, Washington, DC 20555-0001, Telephone (301) 415-1146, or email <RKA@NRC.GOV>.

SUPPLEMENTARY INFORMATION:

Regulatory Guide for License Renewal

Regulatory Guide 1.188 is being issued as guidance for the license renewal rule. This regulatory guide provides guidance on the format and content acceptable to the NRC staff for structuring and presenting the information to be compiled and submitted in an application for renewal of a nuclear power plant operating license. Regulatory Guide 1.188 endorses the use of the Nuclear Energy Institute (NEI) guidance document, Revision 3 of NEI 95-10, “Industry Guideline for Implementing the Requirements of 10 CFR Part 54—The License Renewal Rule,” March 2001, as an acceptable method for preparing an application that complies with the requirements of the license renewal rule.

Regulatory Guide 1.188 was issued in draft form as Draft Regulatory Guides DG-1104 and DG-1047 which were issued for public comment in August 2000 and in August 1996, respectively, to propose endorsement of an earlier version of NEI 95-10.

Regulatory Guide 1.188 and NEI 95-10 provide guidance on the contents of an application for license renewal that includes —

(1) Required general information concerning the applicant and the plant;

(2) Information contained in the integrated plant assessment;

(3) An evaluation of time-limited aging analyses (TLAAs);

(4) A supplement to the Final Safety Analysis Report (FSAR);

(5) Technical specification changes and their justification; and

(6) A supplement to the environmental report.

Specifically, guidance is provided for—

(1) Identifying the structures and components subject to aging management review;

(2) Ensuring that the effects of aging are managed;

(3) Identifying and evaluating TLAAs;

(4) Establishing the format and content of the license renewal application; and

(5) Preparing an FSAR supplement.

As indicated in Revision 3 of NEI 95-10, NEI intends that NEI 95-10 be consistent with the GALL report and the SRP-LR.

Standard Review Plan for License Renewal

The NRC staff also has revised a SRP-LR, NUREG-1800, that contains guidance to NRC staff reviewers on performing safety reviews of applications submitted to renew licenses of nuclear power plants in accordance with the license renewal rule. The SRP-LR contains four major chapters: (1) Administrative Information, (2) Scoping and Screening Methodology for Identifying Structures and Components Subject to Aging Management Review, and Implementation Results, (3) Aging Management Review Results, and (4) Time-Limited Aging Analyses. In addition, three Branch Technical Positions are in an appendix to the SRP-LR.

During the initial license renewal reviews, the NRC and the industry recognized that most of the existing programs at the plants were adequate to manage aging effects for license renewal without change. The Commission, by a staff requirements memorandum (SRM) dated August 27, 1999, directed the NRC staff to focus the review guidance in the SRP-LR on existing programs that should be augmented for license renewal. The NRC staff developed the GALL report that evaluates existing programs generically to document the basis for determining when existing programs are adequate without change and when existing programs should be augmented for license renewal. The SRP-LR incorporates the GALL report by reference.

Generic Aging Lessons Learned Report

The GALL report, NUREG-1801, presents the aging management review results in a table format. The adequacy of the generic aging management programs in managing certain aging effects for particular structures and components is evaluated based on the review of 10 program attributes: scope of the program, preventive actions, parameters monitored or inspected, detection of aging effects, monitoring and trending, acceptance criteria, corrective actions, confirmation process, administrative controls, and operating experience. If the evaluation determines that a program is adequate to manage certain aging effects for particular structures and components without change, the GALL report indicates that no further NRC staff evaluation is recommended for license renewal. Otherwise, it recommends areas in which the NRC staff should focus its review.

The GALL report is a technical basis document for the SRP-LR. The GALL report should be treated in the same manner as an approved topical report that is applicable generically. An applicant may reference the GALL report in a license renewal application to demonstrate that the applicant's programs at its facility correspond to those reviewed and approved in the GALL report and that no further NRC staff review is required. If the material presented in the GALL report is applicable to the applicant's facility, the NRC staff would find the applicant's reference to the GALL report acceptable. In making this determination, the NRC staff will consider whether the applicant has identified specific programs described and evaluated in the GALL report. The NRC staff will not repeat its review of the substance of the matters described in the GALL report; rather, the NRC staff will ensure that the applicant verifies that the approvals set forth in the GALL report for generic programs apply to the applicant's programs. The focus of the NRC staff review will be on augmented programs for license renewal. The NRC staff will also review information that is not addressed in the GALL report, or is otherwise different from that in the GALL report.

Analysis of Public Comments on the Improved License Renewal Guidance Documents

On August 31, 2000, the NRC announced (65 FR 53047) the issuance for public comment and availability of Draft Regulatory Guide DG-1104, “Standard Format and Content for Applications to Renew Nuclear Power Plant Operating Licenses”; a draft “Standard Review Plan for the Review of License Renewal Applications for Nuclear Power Plants” (SRP-LR); and a draft “Generic Aging Lessons Learned (GALL) Report.” DG-1104 proposed to endorse NEI 95-10, Rev. 2, “Industry Guideline for Implementing the Requirements of 10 CFR Part 54—The License Renewal Rule.” The NRC also announced a public workshop that was held on September 25, 2000, to facilitate gathering public comment on the draft documents. Written comments were received from over 128 commenters with the breakdown being 101 individuals, 15 public interest groups, and 12 industry groups (law firms, utilities, and the Nuclear Energy Institute). The staff also held public meetings with stakeholders to discuss their comments.

NUREG-1739 contains the NRC response to stakeholders' comments. The dispositions are prepared in a table format and contained in five appendices. Appendix A addresses the participant comments from the license renewal public workshop on September 25, 2000; Appendix B addresses the specific written comments submitted by NEI; Appendix C addresses the written comments submitted by various stakeholders such as the Union of Concerned Scientists, utilities, and private citizens; Appendix D addresses five Union of Concerned Scientists reports; and Appendix E addresses the Advisory Committee on Reactor Safety (ACRS) consultants' structural and electrical comments.

Dated at Rockville, Maryland, this 27th day of July 2001.
For the Nuclear Regulatory Commission.
David B. Matthews,
Director, Division of Regulatory Improvement Programs, Office of Nuclear Reactor Regulation.

[FR Doc. 01-19417 Filed 8-2-01; 8:45 am]

BILLING CODE 7590-01-P